DEPARTMENT OF ENERGY

Advanced Scientific Computing Advisory Committee

AGENCY: Office of Science, Department of Energy.

ACTION: Notice of open meeting.

SUMMARY: This notice announces an open hybrid meeting of the Advanced Scientific Computing Advisory Committee (ASCAC). Due to the COVID-19 pandemic, we are strongly encouraging virtual participation by members of the public. There will, however, be limited seating available for the public at the Westin, listed below. The Federal Advisory Committee Act requires that public notice of these meetings be announced in the Federal Register.

DATES: Thursday, July 21, 2022; 10:00 a.m. to 4:00 p.m. (eastern time), and Friday, July 22, 2022; from 10:00 a.m. to 1:00 p.m. (eastern time).

ADDRESSES: Westin Crystal City, 1800 Richmond Hwy, Arlington, VA 22202 and via Teleconference: Remote attendance of the ASCAC meeting will be possible via Zoom. Instructions will be posted on the ASCAC website at: https://science.energy.gov/ascr/ascac prior to the meeting and can also be obtained by contacting Christine Chalk by email at christine.chalk@science.doe.gov or by phone at (301) 903-7486.

FOR FURTHER INFORMATION CONTACT: Christine Chalk, Office of Advanced Scientific Computing Research; SC-31/Germantown Building; U.S. Department of Energy; 1000 Independence Avenue SW, Washington, DC 20585-1290; Telephone (301) 903-7486, email: christine.chalk@science.doe.gov.

SUPPLEMENTARY INFORMATION: Purpose of the Committee: The purpose of the committee is to provide advice and guidance on a continuing basis to the Office of Science and to the Department of Energy on scientific priorities within the field of advanced scientific computing research.

Purpose of the Meeting: This meeting is the semi-annual meeting of the Committee.

Tentative Agenda

• View from Washington

• View from Germantown

• Update on Exascale project activities

• Update on ASCR facilities and testbeds

• Update on International Charge

• Technical presentations

• Public Comment (10-minute rule)

The meeting agenda includes an update on the budget, accomplishments and planned activities of the Advanced Scientific Computing Research program and the exascale computing project; an update from the Office of Science; technical presentations from funded researchers; updates from subcommittees and there will be an opportunity for comments from the public. The meeting will conclude at 1:00 p.m. (eastern time) on July 22, 2022. Agenda updates and presentations will be posted on the ASCAC website prior to the meeting: https://science.osti.gov/ascr/ascac.

Public Participation: The meeting is open to the public. Individuals and representatives of organizations who would like to offer comments and suggestions may do so during the meeting. Approximately 30 minutes will be reserved for public comments. Time allotted per speaker will depend on the number who wish to speak but will not exceed 10 minutes. The Designated Federal Officer is empowered to conduct the meeting in a fashion that will facilitate the orderly conduct of business. Those wishing to speak should submit your request at least five days before the meeting. Those not able to attend the meeting or who have insufficient time to address the committee are invited to send a written statement to Christine Chalk, U.S. Department of Energy, 1000 Independence Avenue SW, Washington, DC 20585, or email to Christine.Chalk@science.doe.gov.

Minutes: The minutes of this meeting will be available within 90 days on the Advanced Scientific Computing website at: https://science.osti.gov/ascr/ascac.

Signed in Washington, DC, on June 24, 2022.
LaTanya Butler,
Deputy Committee Management Officer.

[FR Doc. 2022-13873 Filed 6-28-22; 8:45 am]

BILLING CODE 6450-01-P